DEPARTMENT OF JUSTICE

Notice of Extension of Public Comment Period on Lodging of Proposed Consent Decree Under the Comprehensive Environmental Response, Compensation, and Liability Act

On November 17, 2014 the Department of Justice published a notice of the lodging of a proposed Consent Decree in the United States District Court for the District of Oregon in the lawsuit entitled United States v. Linnton Plywood Association, Civil Action No. 3:14-1772. See 79 FR 68484. That notice commenced a thirty (30) day public comment period. By this notice, the United States hereby extends the public comment period by an additional thirty (30) days.

Comments should be addressed to the Assistant Attorney General, Environment and Natural Resources Division, and should refer to United States v. Linnton Plywood Association, D.J. Ref. No. 90-11-2-06787/3 All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $18.75 (25 cents per page reproduction cost) payable to the United States Treasury. For a paper copy without the exhibits and signature pages, the cost is $8.75.

Susan M. Akers,
Assistant Section Chief, Environmental Enforcement Section, Environment and Natural Resources Division.

[FR Doc. 2014-29926 Filed 12-22-14; 8:45 am]

BILLING CODE 4410-15-P